DEPARTMENT OF AGRICULTURE

Forest Service

Custer Gallatin National Forest—Yellowstone Ranger District—Stillwater Mining Company, East Boulder Mine Amendment 004 Expansion EIS

AGENCY: Forest Service, Agriculture (USDA).

ACTION: Notice to extend the public scoping period.

SUMMARY: The Forest Service, United States Department of Agriculture, Custer Gallatin National Forest (CGNF) is issuing this notice to advise the public of a 20-day extension to the public scoping period for the preparation of an Environmental Impact Statement on the East Boulder Mine Amendment 004 Expansion.

DATES: Comments concerning the scope of the analysis must be received by July 18, 2022.

ADDRESSES: Comments can be submitted in written or electric formats. Mail written comments to: Custer Gallatin National Forest—Gardiner Ranger District, P.O. Box 5, Gardiner, MT 59030. To submit comments electronically through the Forest Service website: https://www.fs.usda.gov/project/?project=61385, click on “Comment/Object on Project”. Acceptable formats for electronic comments are text or HTML email, Adobe Portable Document Format (PDF), or formats viewable in Microsoft Word (such as .doc or .docx).

FOR FURTHER INFORMATION CONTACT: Robert Grosvenor, CGNF Minerals Administrator, (406) 848-7375 ext. 28, or at: robert.grosvenor@usda.gov.

Individuals who use telecommunication devices for the deaf or hard of hearing (TDD) may call the Federal Relay Service (FRS) at 1-800-877-8339, 24 hours a day, every day of the year, including holidays.

SUPPLEMENTARY INFORMATION: The original Notice of Intent to prepare an Environmental Impact Statement on the East Boulder Mine Amendment 004 Expansion project was published in the Federal Register on May 27, 2022 (87 FR 11470). Recognizing that a 30-day period may be insufficient for comment preparation from all interested parties, the scoping period is being extended for 20 days from the date of this publication. All comments received from May 27, 2022, through the end date published in this notice will be considered. A detailed description of the proposed action and additional information is available at: https://www.fs.usda.gov/project/?project=61385.

Dated: June 21, 2022.
Deborah Hollen,
Acting Associate Deputy Chief, National Forest System.

[FR Doc. 2022-13643 Filed 6-24-22; 8:45 am]

BILLING CODE 3411-15-P